DEPARTMENT OF THE INTERIOR

Bureau of Reclamation

Salton Sea Restoration Project, Riverside and Imperial Counties, California, INT-DES-00-03

AGENCY: Bureau of Reclamation, Interior.

ACTION: Notice of extension of public comment period for the Draft Environmental Impact Statement/Draft Environmental Impact Report (DEIS/DEIR).

SUMMARY: Notice is hereby given that the public comment period for the DEIS/DEIR for the Salton Sea Restoration Project is extended an additional 21 days to May 16, 2000.

DATES: The end of the public comment period, as noted in the Federal Register (65 FR 4258) on January 26, 2000, was to be April 25, 2000. The public comment period is now extended to May 16, 2000.

ADDRESSES: Written comments on the DEIS/DEIR should be addressed to Mr. Tom Kirk, Director, Salton Sea Authority, 78-401 Highway 111, Suite T, La Quinta, CA 92253; or to Mr. William Steele, Program Manager, Salton Sea Project, Bureau of Reclamation, PO Box 61470, Boulder City, NV 89006-1470.

The document is available on the Internet at http://www.lc.usbr.gov. Copies of the DEIS/DEIR may be requested from Mr. Steele at the above address or by calling (702) 293-8129.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Mr. Tom Kirk, SSA, at (760) 564-4888; or Mr. William Steele, Reclamation, at (702) 293-8129.

Dated: April 14, 2000.
Erica Petacchi,
Federal Register Liaison.

[FR Doc. 00-9968 Filed 4-20-00; 8:45 am]

BILLING CODE 4310-94-P